DEPARTMENT OF DEFENSE

Office of the Secretary

Domestic Advisory Panel (DAP) on Early Intervention and Education for Infants, Toddlers, Preschool Children, and Children With Disabilities

AGENCY: Department of Defense Domestic Dependent Elementary and Secondary Schools (DDESS).

ACTION: Notice.

SUMMARY: Pursuant ot Public Law 92-463, the Federal Advisory Committee Act, notice is hereby given that a meeting of the Domestic Advisory Panel (DAP) on Early Intervention and Education for Infants, Toddlers, Preschool Children, and Children with Disabilities is scheduled to be held from 8:30 a.m. to 3:30 p.m. on May 6-7, 2002. The meeting is open to the public and will be held in the DDESS Director's offices at 700 Westpark Drive, third floor, Peachtree City, GA 30269-1498. The purpose of the meeting is to: review the response to the panel's recommendations from its November 2001 meeting; review and comment on data and information provided by DDESS; and establish subcommittees as necessary. Persons desiring to attend the meeting or desiring to make oral presentations or submit written statements for consideration by the panel must contact Dr. Cynthia Chen at (770) 486-2990.

Dated: March 25, 2002.
L.M. Bynum,
Alternate OSD Federal Register Liaison Officer, Department of Defense.

[FR Doc. 02-7899 Filed 4-1-02; 8:45 am]

BILLING CODE 5001-08-M